DEPARTMENT OF THE INTERIOR

Bureau of Ocean Energy Management

[OMB Number 1010-0048]

Information Collection: Geological and Geophysical Explorations of the Outer Continental Shelf; Submitted for OMB Review; Comment Request MMAA104000

ACTION: 30-day notice.

SUMMARY: To comply with the Paperwork Reduction Act of 1995 (PRA), the Bureau of Ocean Energy Management (BOEM) is notifying the public that we have submitted an information collection request (ICR) to the Office of Management and Budget (OMB) for review and approval. The ICR concerns the paperwork requirements in the regulations under 30 CFR 551, Geological and Geophysical (G&G) Explorations of the Outer Continental Shelf. This notice provides the public a second opportunity to comment on the paperwork burden of this collection.

DATES: Submit written comments by January 16, 2015.

ADDRESSES: Submit comments on this ICR to the Desk Officer for the Department of the Interior at OMB-OIRA at (202) 395-5806 (fax) or OIRA_submission@omb.eop.gov (email). Please provide a copy of your comments to the BOEM Information Collection Clearance Officer, Bureau of Ocean Energy Management, 381 Elden Street, HM-3127, Herndon, Virginia 20170 (mail) or boemcmts@gmail.com (email). Please reference ICR 1010-0048 in your comment and include your name and return address.

FOR FURTHER INFORMATION CONTACT: Office of Policy, Regulations, and Analysis at boemcmts@gmail.com (email) or (202) 513-7672. You may review the ICR and form online at http://www.reginfo.gov. Follow the instructions to review Department of the Interior collections under review by OMB.

SUPPLEMENTARY INFORMATION: OMB Control Number: 1010-0048.

Title: 30 CFR 551, Geological and Geophysical (G&G) Explorations of the Outer Continental Shelf.

Form: BOEM-0327, Requirements for G&G Explorations or Scientific Research on the Outer Continental Shelf.

Abstract: The Outer Continental Shelf (OCS) Lands Act, as amended (43 U.S.C. 1331 et seq. and 43 U.S.C. 1801 et seq.), authorizes the Secretary of the Interior to prescribe rules and regulations to administer leasing of mineral resources on the OCS. The OCS Lands Act (43 U.S.C. 1340) states that “any person authorized by the Secretary may conduct geological and geophysical explorations in the outer Continental Shelf, which do not interfere with or endanger actual operations under any lease maintained or granted pursuant to this subchapter, and which are not unduly harmful to aquatic life in such area.” The section further requires that permits to conduct such activities may only be issued if it is determined that the applicant is qualified; the activities do not result in pollution or create hazardous or unsafe conditions; the activities do not unreasonably interfere with other uses of the area or disturb any site, structure, or object of historical or archaeological significance. Applicants for permits are required to submit form BOEM-0327 to provide the information necessary to evaluate their qualifications, and upon approval, respondents are issued a permit.

Also, as a Federal agency, we have a continuing affirmative duty to comply with the National Environmental Policy Act (NEPA), Endangered Species Act (ESA), and Marine Mammal Protection Act (MMPA). This includes a substantive duty not to take agency actions that are likely to jeopardize protected species as well as a procedural duty to consult with the Fish and Wildlife Service (FWS) and National Oceanic and Atmospheric Administration Fisheries (NOAA Fisheries) before engaging in a discretionary action that may affect a protected species.

The Independent Offices Appropriations Act (31 U.S.C. 9701), the Omnibus Appropriations Bill (Pub. L. 104-133, 110 Stat. 1321, April 26, 1996), and the OMB Circular A-25 authorize Federal agencies to recover the full cost of services that confer special benefits. All G&G permits are subject to cost recovery, and BOEM regulations specify service fees for these requests.

Regulations to carry out these responsibilities are contained in 30 CFR 551 and are the subject of this information collection renewal. BOEM uses the information to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the government for certain costs. Information on the G&G characteristics of oil- and gas-bearing physiographic regions aids the Secretary in obtaining a proper balance among the potentials for environmental damage, the discovery of oil and gas, and associated impacts on affected coastal States.

In this renewal, we are including the estimated G&G permit applications and information that will be submitted for the Atlantic OCS. As a result of the BOEM Record of Decision regarding G&G survey activities on the Mid- and South Atlantic OCS Planning Areas (issued on July 23, 2014 (79 FR 42815)), BOEM will now consider G&G permit applications for this area.

Also in this renewal, BOEM is updating form BOEM-0327 to clarify the types of copies being requested, delete incorrect language, make recommendations for faster processing, update addresses, and reference NEPA mitigation requirements. To respond to the types of questions BOEM receives from permittees on the form, BOEM is also clarifying wording, providing examples/tables to reduce confusion, and clarifying Regional differences, when necessary, to further assist permittees. BOEM is not asking for more information, just outlining current requirements in more detail.

These improvements do not change the hour burden for the form; however, based on public comments and respondent outreach, BOEM is making significant changes to the estimated hour burdens associated with the application. For the majority of permit applications, which are associated with G&G exploration in the Gulf of Mexico OCS Region, BOEM is increasing the hour burden from 3 to 300 hours. For applications in the frontier areas of the Alaska OCS Region and Atlantic OCS, BOEM is adjusting the burden to be significantly higher (from 300 to 1,000 hours), not because of the form changes, but because of the requirements to submit environmental information sufficient for the National Environmental Policy Act (NEPA) review about the effects of sound on marine mammals and other protected species. BOEM expects it will take more time for companies to compile and submit the necessary information to obtain the required authorizations to acquire a BOEM permit in these frontier areas, as well as to coordinate with other agencies. Due diligence, however, is still expected as full environmental review is authoritative within all OCS Regions.

BOEM believes the increased burden hours in this renewal accommodate the various requirements for all OCS Regions that companies must meet for environmental compliance to obtain G&G data, such as obtaining BOEM permits, coordinating their activities with the Department of Defense (DOD) and the National Aeronautics and Space Administration (NASA), as well as the additional requirement from the National Marine Fisheries Service (NMFS) to obtain an Incidental Take Authorization under the MMPA.

To complement the changes made in form BOEM-0327, BOEM is separating the requirements in the BOEM-issued permits by OCS Region to further assist permittees and clarify Regional differences. The actual permits are filled in by BOEM and do not incur a respondent hour burden.

We protect proprietary information according to the Freedom of Information Act (5 U.S.C. 552) and its implementing regulations (43 CFR part 2), and under regulations at 30 CFR 551. No items of a sensitive nature are collected. Responses are mandatory.

Frequency: On occasion, annual, or as specified in permits.

Description of Respondents: Potential respondents comprise Federal OCS oil, gas, and sulphur permittees or notice filers.

Estimated Reporting and Recordkeeping Hour Burden: We estimate the burden for this collection to be about 40,954 hours. The following table details the individual components and respective hour burden estimates of this ICR.

Burden Table
Citation 30 CFR 551 | Reporting and recordkeeping requirement | Non-hour cost burden *: Hour burden | Non-hour cost burden *: Average number of annual responses | Non-hour cost burden *: Annual burden hours
30 CFR 551.1 through 551.6
551.4(a), (b); 551.5(a), (b), (d); 551.6; 551.7 | Apply for permits (form BOEM-0327) to conduct G&G exploration, including deep stratigraphic tests/revisions when necessary and mitigations. Submit required information in manner specified | 1,000 AK** 1,000 ATL** 300 GOM | 4 Applications 9 Applications 74 Applications | 4,000 9,000 22,200
| 87 applications × $2,012 = $175,044
551.4(b); 551.5(c), (d); 551.6 | File notices to conduct scientific research activities, including notice to BOEM prior to beginning and after concluding activities | 1 | 1 Notice | 1
551.6(b); 551.7(b)(5) | Notify BOEM if specific actions should occur; report archaeological resources (no instances reported since 1982). Consult with other users | 1 | 1 Notice | 1
Subtotal | 89 | 35,202
| $175,044 non-hour cost burden
30 CFR 551.7 through 551.9
551.7; 551.8 | Submit APD and Supplemental APD to BSEE | Burden included under BSEE regulations at 30 CFR 250, Subpart D (1014-0018) |  | 0
551.7; 551.8(b) | Submit information on test drilling activities under a permit, including required information and plan revisions (e.g., drilling plan and environmental report) | 1 | 1 Submission | 1
551.7(c) | Enter into agreement for group participation in test drilling, including publishing summary statement; provide BOEM copy of notice/list of participants (no agreements submitted since 1989) | 1 | 1 Agreement | 1
551.7(d) | Submit bond(s) on deep stratigraphic test and required securities | Burden included under 30 CFR Part 556 (1010-0006) |  | 0
551.8(a) | Request reimbursement for certain costs associated with BOEM inspections (no requests in many years) | 1 | 1 Request | 1
551.8(b), (c) | Submit modifications to, and status/final reports on, activities conducted under a permit | 38 AK ** | 4 Respondents × 10 Reports = 40 | 1,520
|  | 38 ATL** | 9 Respondents × 10 Reports = 90 | 3,420
|  | 2 GOM | 55 Respondents × 3 Reports = 165 | 330
551.9(c) | Notify BOEM to relinquish a permit | ½ | 2 Notices | 1
Subtotal | 300 | 5,274
30 CFR 551.10 through 551.13
551.10(c) | File appeals | Exempt under 5 CFR 1320.4(a)(2), (c) |  | 0
551.11; 551.12 | Notify BOEM and submit G&G data and/or information collected and/or processed by permittees, bidders, or 3rd parties, etc., including reports, logs or charts, results, analyses, descriptions, information as required, and agreements, in manner specified | 4 | 40 Submissions | 160
551.13 | Request reimbursement for certain costs associated with reproducing data/information | 2 | 40 Submissions | 80
Subtotal |  |  | 80 | 240
30 CFR 551.14
551.14(a), (b) | Submit comments on BOEM intent to disclose data and/or information to the public | 1 | 2 Comments | 2
551.14(c)(2) | Submit comments on BOEM intent to disclose data and/or information to an independent contractor/agent | 1 | 2 Comments | 2
551.14(c)(4) | Contractor/agent submits written commitment not to sell, trade, license, or disclose data and/or information without BOEM consent | 1 | 2 Commitments | 2
551.1-551.14 | General departure and alternative compliance requests not specifically covered elsewhere in part 551 regulations | 1 | 2 Requests | 2
Subtotal |  |  | 8 | 8
Extension for Permit Form & Recordkeeping
551.14(b) (BOEM-0327) | Request extension of permit time period; enter agreements | 1 | 100 Extensions | 100
| Retain G&G data/information for 10 years and make available to BOEM upon request | 1 | 130 Recordkeepers | 130
Subtotal |  |  | 230 | 230
Total Burden |  |  | 707 | 40,954
| $175,044 non-hour cost burden.
* Fees are subject to modification per inflation annually.
** Burden hours for the frontier areas of the Alaska Region and Atlantic OCS are significantly higher because of NEPA and mitigation requirements. BOEM is accounting for the total time to compile/submit the necessary information to obtain the required authorizations to acquire a BOEM permit. There are currently no such activities ongoing in the Pacific OCS Region.

Estimated Reporting and Recordkeeping Non-Hour Cost Burden: We have identified one non-hour cost burden for this collection of information. Under § 551.5(a) there is an application fee of $2,012 when respondents submit a permit application (refer to the table above).

Public Disclosure Statement: The PRA (44 U.S.C. 3501, et seq.) provides that an agency may not conduct or sponsor a collection of information unless it displays a currently valid OMB control number. Until OMB approves a collection of information, you are not obligated to respond.

Comments: We invite comments concerning this information collection on:

• Whether or not the collection of information is necessary, including whether or not the information will have practical utility;

• The accuracy of our burden estimates;

• Ways to enhance the quality, utility, and clarity of the information to be collected; and

• Ways to minimize the burden on respondents.

To comply with the public consultation process, on August 22, 2014, BOEM published a Federal Register notice (79 FR 49807) announcing that we would submit this ICR to OMB for approval. This notice provided the required 60-day comment period. We received two sets of comments, which are discussed below.

Discussion of Public Comments Received

(1) International Assoc. of Geophysical Contractors (IAGC) With American Petroleum Institute (API)

The IAGC and API jointly submitted one set of comments. BOEM has addressed each point separately below.

Comment: Section D 3—Sound propagation information for Gulf of Mexico (GOM) Simsource Surveys is unwarranted.

Response: BOEM has given this comment due consideration and decided not to remove GOM simsource survey submissions at this time. Simsource surveys are new to the GOM and have not been considered previously in a Gulf of Mexico Programmatic Environmental Impact Statement. As such, in the near term, BOEM will scrutinize these surveys in more detail than surveys that use serial or sequential methods of energizing source arrays. After a suitable period of time, this review may not be needed.

Comment: Burden Estimates from BOEM are flawed. BOEM should recognize the substantial hour burden associated with permit application preparation. Expert consultants have detailed 300 to 1,000 hours for preparation of an application for G&G activity permits and marine mammal take permits.

Response: In response to the comment and to respondent feedback, BOEM is increasing the hour burden to fill out the permit application form for the Gulf of Mexico OCS Region from 3 to 300 hours and for the other OCS areas from 300 to 1,000 hours. Companies conducting G&G activities in the Gulf of Mexico OCS Region have experience in compiling and submitting the necessary information to obtain the required authorizations. However, in the frontier areas outside of the Gulf of Mexico OCS Region, BOEM expects it will take more time for companies to compile and submit the necessary information to obtain the required authorizations to acquire a BOEM permit in these areas as well as coordinate with other agencies. Therefore, the burden for applicants in the other OCS Regions to describe the environmental effects and proposed mitigations is estimated much higher.

Comment: Section D. Proprietary Information Attachment Required for an Application for Geophysical Permit—Item 10 is requiring the applicant to list “all proposed initial and final processed data sets that will result from acquisition under this activity.” An applicant can identify to BOEM what the original final processed data will be, but will be unable to provide other Forms of the processed data that the market may demand at the time the applicant submits form BOEM-0327.

Response: After review, BOEM will continue this requirement. The burden is considered minimal as BOEM only expects the permittee to conjecture what processing/end products are known at the time the permit application is submitted. This information often provides BOEM with a starting place for determining what type of products to expect from a survey. Inaccuracies or later changes are not penalized.

Comment: Section A. General Information—Item 4 requests an applicant provide a “Commencement Date” for the proposed geophysical activity. It is difficult for an applicant to provide a specific date because it is highly dependent on when the permit is used and when the vessel(s) and crew can be mobilized into the area of proposed activity.

Response: The “expected” commencement and “expected” completion date requirements will remain in the application as they provide BOEM with an idea of how long the permittee expects the duration of the activity to be. The planned time frame for the activity is especially critical in Alaska for NEPA review. These dates are critical for determining the possible environmental effects of the activity for such issues as the timing of subsistence hunting and presence of different protected species. The effective date of a permit will still be the issuance date that starts the 12-month clock ticking. For Atlantic OCS permits, BOEM plans to coordinate the effective date of the permit with the effective date of the Incidental Harassment Authorization to the extent practicable. The goal is to provide the permittee with as close to the maximum 12 months of operating time as possible.

Comment: Section A. General Information—Item 6 requests the applicant provide the vessel(s) name, registry number and registered owner(s). It can be difficult for an applicant to provide this information. This requirement does not accommodate the global nature of the geophysical industry nor the unpredictable timeline and regulatory uncertainty attendant with the requirements of the MMPA, NEPA and ESA. Geophysical contractors utilize vessels that are in high demand and that operate globally. It is difficult for an applicant to identify (with complete certainty) a specific vessel that will be available and will be used for a survey to be conducted several months to over a year later. Furthermore, the U.S. Coast Guard (USCG) is provided the same information at the time the vessel(s) mobilize into the U.S. OCS. Consequently, the information request in BOEM Form 0327 is unnecessary. In the alternative, the Associations recommend that BOEM Form 0327 require an applicant to submit the type of vessel(s) to be utilized in the survey (e.g., vessel classification, streamer versus OBN, number of streamers) and at the time the geophysical contractor notifies the USCG, the BOEM will also be notified of vessel(s) name, registry number(s) and registered owner(s).

Response: Homeland Security, as well as the Department of Defense, has contacted BOEM in the past concerning survey vessels. Therefore, this requirement needs to be retained. However, BOEM agrees that the information for this requirement may or may not be known at the time the permit application is submitted. Currently, if the applicants know this information they can provide it with the application. If they do not, BOEM allows them to provide it at a later date prior to operations beginning. In these cases, email is often used to provide the information to BOEM in a timely manner. In a few instances, the permittee did not know which vessels were going to be used when the permit was issued. In these instances the permit cover letter stated that operations could not commence until the vessel information was provided to BOEM, usually by email for quick turnaround time. BOEM understands that this is of particular concern for Atlantic permits. The GOM flexibility will be extended to the Atlantic permits as well. The Alaska Region requires vessel information for the NEPA analysis. Companies are directed to provide vessel specs that represent the most likely type of vessels that will be used for the activity. The final vessel information must be submitted ideally before the permit is issued, but definitely prior to commencement of operations pending approval from the NEPA staff.

(2) North American Submarine Cable Assoc. (NASCA)

Comment: NASCA urges BOEM to modify form BOEM-0327 to require permit applicants to identify and coordinate with submarine cables in the vicinity of any planned G&G activities.

Response: BOEM believes that “other uses” currently on the form would include submarine cable companies and that the current coordination processes with regard to submarine cables are working well in mature areas such as the Gulf of Mexico and should work just as well in the other Regions. In recognition of the concerns expressed in the NASCA comments, we have acknowledged such other uses by adding the words “including submarine cables” in form BOEM-0327 (under General Requirements paragraph E). Furthermore, we will add “Submarine Cable Coordination” to the list of Stipulations we attach to every permit. The NASCA would need to provide points of contact, etc., for the permittee. The matter would then be dealt with between the permittee and the submarine cable company.

Public Availability of Comments: Before including your address, phone number, email address, or other personal identifying information in your comment, you should be aware that your entire comment—including your personal identifying information—may be made publicly available at any time. While you can ask us in your comment to withhold your personal identifying information from public review, we cannot guarantee that we will be able to do so.

Dated: December 9, 2014.
Deanna Meyer-Pietruszka,
Chief, Office of Policy, Regulations, and Analysis.

[FR Doc. 2014-29564 Filed 12-16-14; 8:45 am]

BILLING CODE 4310-MR-P